DEPARTMENT OF TRANSPORTATION

Federal Aviation Administration

Membership in the National Parks Overflights Advisory Group

AGENCY: Federal Aviation Administration, DOT.

ACTION: Notice.

SUMMARY: By Federal Register notice published on March 11, 2004, the National Park Service (NPS) and the Federal Aviation Administration (FAA), asked interested persons to apply to fill a vacant position representing aviation interests on the National Parks Overflights Advisory Group (NPOAG) Aviation Rulemaking Committee (ARC). This notice informs the public of the person selected to fill that vacancy on the NPOAG ARC.

FOR FURTHER INFORMATION CONTACT: Barry Brayer, Executive Resource Staff, Western Pacific Region Headquarters, 15000 Aviation Blvd., Hawthorne, CA 90250, telephone: (310) 725-3800, E-mail: Barry.Brayer@faa.gov, or Karen Trevino, National Park Service, Natural Sounds Program, 1201 Oakridge Dr., Suite 350, Ft. Collins, CO 80525, telephone (970) 225-3563, or Karen_Trevino@nps.gov.

SUPPLEMENTARY INFORMATION:

Background

The National Parks Air Tour Management Act of 2000 (the Act) was enacted on April 5, 2000, as Public Law 106-181. The Act required the establishment of the advisory group within 1 year after its enactment. The NPOAG was established in March 2001. The advisory group is comprised of a balanced group of representatives of general aviation, commercial air tour operations, environmental concerns, and Native American tribes. The Administrator and the Director (or their designees) serve as ex officio members of the group. Representatives of the Administrator and Director serve alternating 1-year terms as chairman of the NPOAG ARC.

The NPOAG ARC provides “advice, information, and recommendations to the Administrator and the Director—

(1) On the implementation of this title [the Act] and the amendments made by this title;

(2) on commonly accepted quiet aircraft technology for use in commercial air tour operations over a national park or tribal lands, which will receive preferential treatment in a given air tour management plan;

(3) on other measures that might be taken to accommodate the interests of visitors to national parks; and

(4) at the request of the Administrator and the Director, safety, environmental, and other issues related to commercial air tour operations over a national park or tribal lands.”

Changes in Membership

To maintain the balanced representation of the group, the FAA and the NPS recently published a notice in the Federal Register asking interested persons to apply to fill a vacancy representing aviation interests on the NPOAG ARC. The person selected to fill that position is Mr. Elling Halverson, Papillon Airways, Inc. The current members of the NPOAG ARC now are Heidi Williams (general aviation), Richard Larew, Elling Halverson, and Alan Stephen (commercial air tour operations), Chip Dennerlein, Charles Maynard, Steve Bosak, and Susan Gunn (environmental interests), and Germaine White and Richard Deertrack (Indian tribes).

Issued in Washington, DC, on May 13, 2004.
Steven W. Douglas,
Acting Director, Flight Standards Service.

[FR Doc. 04-11301 Filed 5-18-04; 8:45 am]

BILLING CODE 4910-13-P